DEPARTMENT OF COMMERCE

International Trade Administration

[A-570-975, A-201-840]

Galvanized Steel Wire From the People's Republic of China and Mexico: Postponement of Preliminary Determinations of Antidumping Duty Investigations

AGENCY: Import Administration, International Trade Administration, Department of Commerce.

DATES: Effective Date: August 4, 2011.

FOR FURTHER INFORMATION CONTACT: Irene Gorelik (the People's Republic of China), Office 9, or Patrick Edwards (Mexico), Office 7, AD/CVD Operations, Import Administration, International Trade Administration, U.S. Department of Commerce, 14th Street and Constitution Avenue, NW., Washington, DC 20230, telephone: (202) 482-6905 or (202) 482-8029, respectively.

SUPPLEMENTARY INFORMATION:

Background

On April 27, 2011, the Department of Commerce (the Department) published in the Federal Register the initiation of the antidumping duty investigations of galvanized steel wire from the People's Republic of China (PRC) and Mexico. The period of investigation (POI) for the PRC investigation is July 1, 2010, through December 31, 2010, and the POI for the Mexico investigation is January 1, 2010, through December 31, 2010. See Galvanized Steel Wire From the People's Republic of China and Mexico: Initiation of Antidumping Duty Investigations, 76 FR 23548 (April 27, 2011). The current deadline for the preliminary determinations of these investigations is September 7, 2011.

Postponement of Preliminary Determinations

Section 733(b)(1)(A) of the Tariff Act of 1930, as amended (the Act), requires the Department to complete its preliminary determinations for these investigations no later than 140 days after the date of issuance of the initiation (i.e., September 7, 2011).

On July 13, 2011, the petitioners, Davis Wire Corporation, Johnstown Wire Technologies, Inc., Mid-South Wire Company, Inc., National Standard, LLC, and Oklahoma Steel & Wire Company, Inc. (collectively, the petitioners) made a timely request pursuant to 19 CFR 351.205(e) for a postponement of the preliminary determinations with respect to the PRC and Mexico. The petitioners requested postponement of the preliminary determinations of the antidumping duty investigations with respect to both the PRC and Mexico so that they have adequate time to analyze and comment upon the responses of the various companies which have been selected as respondents. See Letters from the Petitioners to the Department, titled “Request for Extension of Time for Preliminary Determination,” dated July 13, 2011.

For the reasons stated by the petitioners and because there are no compelling reasons to deny the request, the Department is postponing the deadline for the preliminary determinations with respect to the PRC and Mexico pursuant to section 733(c)(1)(A) of the Act and 19 CFR 351.205(e) by 50 days to October 27, 2011. In accordance with section 735(a)(1) of the Act, the deadline for the final determinations of these antidumping duty investigations will continue to be 75 days after the date of these preliminary determinations, unless extended.

This notice is issued and published in accordance with section 733(c)(2) of the Act and 19 CFR 351.205(f)(1).

Dated: July 29, 2011.
Ronald K. Lorentzen,
Deputy Assistant Secretary for Import Administration.

[FR Doc. 2011-19822 Filed 8-3-11; 8:45 am]

BILLING CODE 3510-DS-P